DEPARTMENT OF DEFENSE

Department of the Air Force HQ USAF Scientific Advisory Board

AGENCY: Department of the Air Force, DoD.

ACTION: Notice of meeting.

SUMMARY: Pursuant to Public Law 92-463, notice is hereby given of the forthcoming meeting of the 2004 Science and Technology Quality Review Panel. The purpose of the meeting is to allow the Air Force Scientific Advisory Board to assess the quality and long-term relevance of Air Force Research Laboratory research reviewed in Fall 2004. Because classified and contractor-proprietary information will be discussed, this meeting will be closed to the public.

DATES: December 10, 2004.

ADDRESSES: 1560 Wilson Blvd, Suite 400, Arlington VA 22209-2404.

FOR FURTHER INFORMATION CONTACT: Major Kyle Gresham, Air Force Scientific Advisory Board Secretariat, 1180 Air Force Pentagon, Rm 5D982, Washington DC 20330-1180, (703) 697-4808.

Albert T. Bodnar,
Air Force Federal Register Liaison Officer.

[FR Doc. 04-26694 Filed 12-3-04; 8:45 am]

BILLING CODE 5001-05-P